DEPARTMENT OF ENERGY

Federal Energy Regulatory Commission

[Docket No. CP18-186-000]

Notice of Schedule for Environmental Review of the Transcontinental Gas Pipe Line Company, LLC, Southeastern Trail Project

On April 11, 2018, Transcontinental Gas Pipe Line Company, LLC (Transco) filed an application in Docket No. CP18-186-000 requesting a Certificate of Public Convenience and Necessity pursuant to Section 7(c) of the Natural Gas Act to construct and operate certain natural gas pipeline facilities. The proposed project is known as the Southeastern Trail Project (Project), and would provide 296.4 million standard cubic feet of natural gas per day (MMcf/d) of additional firm transportation capacity from the Pleasant Valley Interconnect facility in Fairfax County, Virginia to the existing Station 65 pooling point in St. Helena Parish, Louisiana.

With this notice, this Commission is alerting agencies that issue federal authorizations of the requirement to complete all necessary reviews and to reach a final decision on a request for a federal authorization within 90 days of the date of the Commission staff's Environmental Assessment (EA) for the Project. This instant notice identifies the FERC staff's planned schedule for the completion of the EA for the Project.

Schedule for Environmental Review

Issuance of EA—February 8, 2019

90-day Federal Authorization Decision Deadline—May 9, 2019

If a schedule change becomes necessary, additional notice will be provided so that the relevant agencies are kept informed of the Project's progress.

Project Description

The Project would involve construction and operation of approximately 7.7 miles of new natural gas pipeline loop located along Transco's existing mainline (referred to as the Manassas Loop) in Fauquier and Prince William Counties, Virginia. The Project also includes approximately 60,720 horsepower of additional compression at three existing facilities in Virginia (Compressor Station 185, Compressor Station 175, and Compressor Station 165); reversal and/or deodorization modifications at eight existing mainline facilities in South Carolina, Georgia, and Louisiana; and modifications at 13 existing mainline valve sites in South Carolina and Georgia. In addition, Transco proposes to retire and abandon 10 compressor units and related buildings and ancillary equipment at existing Compressor Station 165 in Pittsylvania County, Virginia.

Background

On June 1, 2018, the Commission issued a Notice of Intent to Prepare an Environmental Assessment for the Proposed Southeastern Trail Project, Request for Comments on Environmental Issues, and Notice of Public Scoping Sessions (NOI). The NOI was sent to affected landowners; federal, state, and local government agencies; elected officials; environmental and public interest groups; Native American tribes; other interested parties; and local libraries and newspapers. In response to the NOI, the Commission received comments from the Virginia Department of Conservation and Recreation, the Teamsters National Pipeline Labor Management Cooperation Trust, and four landowners. The primary issues raised by the commentors are noise, safety, land use, and sensitive habitats and species. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP18-186), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: December 14, 2018.
Kimberly D. Bose,
Secretary.

[FR Doc. 2018-27640 Filed 12-20-18; 8:45 am]

BILLING CODE 6717-01-P